ENVIRONMENTAL PROTECTION AGENCY

40 CFR Part 63

[FRL-6721-7]

RIN 2060-AE41

National Emission Standards for Hazardous Air Pollutants for Source Categories: National Emission Standards for Primary Copper Smelters

AGENCY: Environmental Protection Agency (EPA).

ACTION: Supplement to proposed rule.

SUMMARY: This action proposes a change to the proposed national emission standards for hazardous air pollutants (NESHAP) for primary copper smelters. After our careful review and evaluation of comments received on the proposed rule and new emissions data obtained since the proposal of the rule, we conclude that a change to the proposed standards for the control of process emissions from smelting furnaces, slag cleaning vessels, and batch copper converters is warranted. Specifically, instead of the equipment standard specified in the original proposal, we are proposing a numerical emission standard that would limit the maximum concentration of total particulate matter in the off-gases discharged from these processes. This action also proposes a new requirement for smelters using baghouses that are required to use bag leak detector systems. On April 20, 1998 (63 FR 19592), the EPA proposed the NESHAP for Source Categories: National Emission Standards for Primary Copper Smelters. In that proposal the EPA estimated that nationwide HAP emissions from the “Primary Copper Smelting” source category was estimated to be approximately 189 Mg/yr (208 tpy). The EPA estimated in the same proposal that implementation of the NESHAP, as proposed, would reduce these nationwide HAP emissions by approximately 20 percent to 115 Mg/yr (171 tpy).

DATES: Comments. We are requesting comments only on this supplement to the proposed rule by August 25, 2000.

Public Hearing. If anyone contacts the EPA requesting to speak at a public hearing on or before July 17, 2000, a public hearing will be held on July 26, 2000 beginning at 10:00 a.m.

ADDRESSES: Comments. Comments on this supplement to the proposed rule should be submitted (in duplicate) to Docket No. A-96-22 at the following address: Air and Radiation Docket and Information Center (6102), U.S. Environmental Protection Agency, 1200 Pennsylvania Avenue, NW., Washington, DC 20460. We request that a separate copy of the comments also be sent to the contact person listed below in FOR FURTHER INFORMATION CONTACT.

Docket

The docket for this rulemaking is Docket No. A-96-22 and is available for public inspection between 8 a.m. and 5:30 p.m., Monday through Friday except for Federal holidays, at the following address: U.S. Environmental Protection Agency, Air and Radiation Docket and Information Center (6102), 401 M Street SW., Washington, DC 20460; telephone: (202) 260-7548. The docket is located at the above address in Room M-1500, Waterside Mall (ground floor). A reasonable fee may be charged for copying.

FOR FURTHER INFORMATION CONTACT: Mr. Eugene Crumpler, Metals Group, Emission Standards Division (MD-13), U.S. Environmental Protection Agency, Research Triangle Park, NC, 27711, telephone number (919) 541-0881, facsimile number (919) 541-5600, electronic mail address “crumpler.gene@epa.gov”.

SUPPLEMENTARY INFORMATION:

Regulated Entities

Entities potentially regulated by this action are primary copper smelters (SIC 3339). No Federal government entities nor State/local/tribal government entities would be regulated by final action on this supplemental proposal.

This description of the regulated entities is not intended to be exhaustive, but rather provides a guide for readers regarding entities likely to be regulated by final action on this supplemental proposal. This description identifies the types of entities that we are now aware could potentially be regulated by final action on this supplemental proposal. To determine whether your facility is regulated by final action on this supplemental proposal, you should carefully examine the applicability criteria in the proposed rule (63 FR 19582, April 20, 1998). If you have any questions regarding the applicability of this action to a particular entity, consult the contact person listed in FOR FURTHER INFORMATION CONTACT.

World Wide Web

An electronic copy of this document will also be available on the Technology Transfer Network (TTN) policy and guidance page for newly proposed or promulgated rules (http://www.epa.gov/ttn/oarpg/). The TTN provides information and technology exchange in various areas of air pollution control. If more information regarding the TTN is needed, call (919) 541-5384.

Docket

The supplemental proposal and other information related to the proposed rule are available for review in the docket. Copies of this information may be obtained by request from the Air Docket by calling (202) 260-7548. A reasonable fee may be charged for copying docket materials The docket is intended to be an organized and complete file of the administrative records complied by us in the development of this rulemaking. The docket is a dynamic file because material is added throughout the rulemaking development. The docketing system is intended to allow members of the public and regulated industries to readily identify and locate documents so that they can effectively participate in the rulemaking process. Along with the proposed and promulgated standards and their preambles, the contents of the docket, except for certain interagency documents, will serve as the record for judicial review. (See CAA section 307(d)(7)(A).)

Public Hearing

If anyone contacts us and requests to speak at a public hearing by July 17, 2000, a public hearing will be held at the U.S. EPA's Office of Administration Auditorium, 79 T.W. Alexander Drive, Research Triangle Park, North Carolina. Persons interested in attending the hearing or in making an oral presentation should notify Mrs. Mary Hinson, Metals Group, Emission Standards Division (MD-13), U.S. Environmental Protection Agency, Research Triangle Park, North Carolina 27711, telephone number (919) 541-5601.

Electronic Filing

Electronic comments can be sent directly to U.S. EPA's Air and Radiation Docket and Information Center at: “A-and-R-Docket@epamail.epa.gov.” Electronic comments must be submitted as an ASCII file avoiding the use of special characters and any form of encryption. Comments and data will also be accepted on disks in WordPerfect in 5.1, 6.1, or Corel 8 file format or ASCII file format. All comments and data in electronic form must be identified by the docket number (A-96-22). No “Confidential Business Information” should be submitted through electronic mail. Electronic comments may be filed online at many Federal Depository Libraries.

Confidential Business Information

If you want to submit proprietary information for consideration, you should clearly distinguish such information from your other comments and clearly label it “Confidential Business Information.” To ensure that proprietary information is not inadvertently placed in the docket, comments containing such proprietary information should not be sent to the public docket but instead sent directly to Mr. Eugene Crumpler, Metals Group, Emission Standards Division, c/o OAQPS Document Control Officer, U.S. Environmental Protection Agency, 411 West Chapel Hill Street, Room 740B, Durham, NC 27701. Information covered by such claim of confidentiality will be disclosed by us only to the extent allowed and by the procedures set forth in 40 CFR part 2. If no claim of confidentiality accompanies a submission when it is received by us, the submission may be made available to the public without further notice to the commenter.

Outline

The information in this preamble is organized as follows.

I. Summary of Proposed Rule Change

II. Background to Supplemental Proposal

III. Selection of the Proposed Emission Standard

A. Original Decision to Propose an Equipment Standard

B. Public Comments on the Proposed Equipment Standard

C. Why We Decided to Change to an Emission Standard

D. Why We Selected Particulate Matter as a HAP Surrogate

E. How We Selected the Numerical Limit for the Emission Standard

IV. Requirements for Alarm Limits on Baghouse Leak Detectors

V. Administrative Requirements

A. Executive Order 12866, Regulatory Planning and Review

B. Executive Order 13132, Federalism

C. Executive Order 13084, Consultation and Coordination with Indian Tribal Governments

D. Executive Order 13045, Protection of Children from Environmental Health Risks and Safety Risks

E. Unfunded Mandates Reform Act of 1995

F. Regulatory Flexibility Act (RFA), as amended by the Small Business Regulatory Enforcement Fairness Act of 1996 (SBREFA), 5 USC 601 et. seq.

G. Paperwork Reduction Act

H. National Technology Transfer and Advancement Act

I. Summary of Proposed Rule Change

We are proposing an emission standard to control the hazardous air pollutants (HAP) emissions from process off-gases discharged from smelting furnaces, slag cleaning vessels, and batch copper converters operated at primary copper smelters subject to the rule as proposed. This emission standard replaces the equipment standard we originally proposed for these sources. The emission standard would establish a numerical limit for the concentration of total particulate matter allowed to be emitted in the process off-gases discharged to the atmosphere from an affected source. We are proposing that this concentration limit be set at 23 milligrams of total particulate matter per dry standard cubic meter (mg/dscm) (approximately 0.010 grains per dry standard cubic foot (gr/dscf)). Measurement of total particulate matter concentration would be performed using either EPA Method 5 or Method 29 in 40 CFR part 60, appendix A. The average value of the results from three test runs would be used to determine compliance with this numerical limit.

We are also proposing a requirement for the percentage of time that bag leak detectors installed on baghouses at primary copper smelters detect levels of particulate matter above a set point. A violation of the standard will occur when the percentage of time that the alarm on the detector is activated exceeds 5 percent of the operating time in any 6-month period.

II. Background to Supplemental Proposal

Section 112 of the Clean Air Act (CAA) directs us to establish NESHAP to control emissions from major and area stationary sources. The source category of “primary copper smelting” is one of the approximately 170 categories selected for regulation under section 112 (57 FR 31576, 61 FR 28202). On April 20, 1998, we proposed the NESHAP for the primary copper smelting source category (63 FR 19582, April 20, 1998).

Following the proposal date, a 90-day comment period (April 20, 1998 to July 20, 1998) was provided to receive comments from the public. A copy of each comment letter that we received has been placed in the docket for this rulemaking (Docket No. A-96-22). Several commenters provided new information regarding operations at primary copper smelters that caused us to reconsider the equipment standard originally proposed for the control of smelter process off-gas streams discharged from smelting furnaces, slag cleaning vessels, and batch copper converters.

The supplement also proposes an operating standard that would limit the frequency and duration of baghouse leak detector alarms to 5 percent of the baghouse operating time during any 6-month period. This operating standard helps assure that baghouses are in continuous compliance with particulate matter standards. The standard will also assure that the owner or operator will properly operate and maintain the system by responding immediately to alarms and take corrective action.

Discussions on the purpose and bases of these proposed changes to the original proposal are contained in the following sections of this preamble.

III. Selection of the Proposed Emission Standard

A. Original Decision To Propose an Equipment Standard

Process HAP emissions are the HAP contained in the primary exhaust gas stream (i.e., off-gases) discharged from a process unit or vessel. Process HAP emissions at primary copper smelters include metal HAP contained in the off-gases exhausted from flash smelting furnaces and from batch copper converters (when the converter vessels are positioned and operated in either the slag or copper blowing mode). At those smelters that perform an additional slag cleaning process step, a third source of metal HAP emissions is the off-gases exhausted from the slag cleaning vessels. All three of these process off-gas streams share a common characteristic. They all contain substantial quantities of sulfur dioxide (SO2) at high concentrations ranging from 4 percent to as much as 80 percent for some smelting furnaces. At all existing smelters using these processes, the process off-gas streams are vented to by-product sulfuric acid plants for SO2 control. These sulfuric acid plants were installed at the smelters to comply with Federal and State regulations limiting emissions of SO2 to the atmosphere.

When we were developing the proposed NESHAP, we determined that the maximum achievable control technology (MACT) floor for controlling metal HAP emissions in the process off-gases vented from existing smelting furnaces, slag cleaning vessels, and batch copper converters is to vent these off-gases to a by-product sulfuric acid plant with its ancillary particulate matter pre-cleaning and conditioning systems (63 FR 19594). Recognizing that an emission standard is the preferred approach for standards established under section 112 of the CAA, we nevertheless proposed an equipment standard pursuant to section 112(h).

Our decision to propose an equipment standard was based on the inherent design and operation of the sulfuric acid plants used to treat the off-gases discharged from the smelting furnaces, slag cleaning vessels, and batch copper converters in order to comply with the existing, federally-enforceable SO2 emission standards. By operating these plants, the smelters also achieve effective control of the metal HAP contained in the process off-gases discharged from the smelting and converting operations. Rigorous pre-cleaning and conditioning of these process off-gases to remove metals and other particulate matter upstream of the acid plant catalyst beds are mandatory to optimize the acid plant performance and to prevent expensive damage to the catalysts and other critical plant equipment. Consequently, the metal HAP concentrations in the tail gases exiting the sulfuric acid plants at primary copper smelters are controlled to very low, if not, trace levels. We concluded that compliance with the existing federally-enforceable SO2 emission limits would ensure good metal HAP emission control for the SO2 rich process off-gases discharged to the smelter's sulfuric acid plant. Therefore, we proposed an equipment standard for the primary copper smelter NESHAP that would require that the process off-gases from smelting furnaces, slag cleaning vessels, and batch copper converters be discharged through a by-product sulfuric acid plant (or other type of sulfur recovery process unit that requires comparable levels of gas stream pre-cleaning and conditioning to remove particulate matter). No numerical emission limits for either individual HAP metals or particulate matter were proposed.

B. Public Comments on the Proposed Equipment Standard

One commenter disagreed with our decision to propose an equipment standard instead of an emission standard for control of metal HAP emissions from smelting furnaces, slag cleaning vessels, and batch copper converters at the affected primary copper smelters. The commenter argued that we are required by the CAA to establish an emission standard for these sources unless it can be demonstrated that prescribing and enforcing a numerical limit is not feasible. In the case of the proposed NESHAP for primary copper smelters, the commenter stated that we provided no documentation to support a determination that it is not feasible to prescribe a numerical limit for the metal HAP emissions from sulfuric acid plants operated at primary copper smelters.

C. Why We Decided To Change to an Emission Standard

Since proposal, we have learned that source tests using EPA reference test methods have been routinely performed at primary copper smelters to measure the content of total particulate matter and individual HAP metal constituents in the tail gas streams vented from the sulfuric acid plants operating at these smelters. After our careful review and evaluation of the comments received on the proposed equipment standard and the newly obtained source test data, we have now changed our opinion regarding the application of a numerical emission limit to these sources.

We have compiled a data base that includes metal HAP and total particulate matter emission data from source tests of the sulfuric acid plants operated at four of the six primary copper smelters using batch copper converters. Many source tests have been conducted at primary copper smelters since 1996 to measure the concentrations of total particulate matter and individual metal HAP in the tail gases exiting the smelter sulfuric acid plants. The majority of these tests were performed using EPA reference test methods.

At two smelters, source tests were repeated on a monthly basis for a 3-year period. The demonstrated capability of the smelter owners and operators to conduct these source tests clearly supports a conclusion that this type of source testing is not only feasible but is practical and not overly burdensome to perform. Furthermore, given the data base that has been compiled using the source test results, we now conclude that a numerical emission limit on the tail gases exiting the sulfuric acid plants operated at primary copper smelters can readily be prescribed and effectively enforced.

D. Why We Selected Particulate Matter as a HAP Surrogate

The HAP emissions from primary copper smelters originate primarily from metal impurities (e.g., arsenic, lead, cadmium, antimony, and other heavy metal species that have been listed as HAP) that naturally occur in copper ore concentrates. During the smelting process of the copper ore concentrates and the subsequent converting process to produce blister copper, these HAP metal species either are eliminated in the molten slag tapped from the process vessels or are vaporized and discharged in the process vessel off-gases. Upon cooling of the process off-gases, the volatilized HAP metal species condense, form aerosols, and behave as particulate matter.

The composition and amounts of metal HAP in the copper ore concentrates can vary from one smelter to another as well as over time at individual smelters depending on the ore deposit from which the copper ore concentrate is derived. This inherent variability and unpredictability of the metal HAP compositions and amounts in copper ore concentrates have a material effect on the composition and amount of HAP metals in the process off-gas emissions. As a result, prescribing individual numerical emission limits for each HAP metal species (e.g., a specific emission limit for arsenic, a specific emission limit for lead, etc.) is difficult, if not impossible, to do.

Given that prescribing individual numerical emission limits for HAP metal is not a practicable approach in this case, an alternative approach is to use total particulate matter as a surrogate pollutant for the metal HAP emitted from primary copper smelters. An emission characteristic common to all primary copper smelters and similar source categories is the fact that the metal HAP are a component of the particulate matter contained in the process off-gases discharged from smelting and converting operations. Strong direct correlations exist between the emissions of total particulate matter and metal HAP compounds. Emission limits established to achieve good control of total particulate matter will also achieve good control of metal HAP. Adopting particulate matter as a surrogate pollutant for these sources provides the added benefit of consistency with the format and test procedures we are using for the other primary copper smelter sources for which we have proposed numerical emission limits (i.e., specifically the proposed numerical emission limit standards for exhaust gas streams from copper concentrate dryers and for captured process fugitive gas streams from smelting and converting vessels).

E. How We Selected the Numerical Limit for the Emission Standard

We prepared a data base from which we could select a numerical limit for total particulate matter contained in the tail gases exiting the sulfuric acid plants operated at primary copper smelters. This data base is derived from the results of field source tests performed between 1996 and 1999 by the primary copper smelter companies using EPA test methods. Most of the tests included in our data base were performed using EPA Method 29 (in appendix A to 40 CFR part 60) which can measure both particulate matter and individual metal emissions from stationary sources. The remaining tests were performed using EPA Method 5 (also in appendix A to 40 CFR part 60) which is used to measure particulate matter emissions from stationary sources. The test protocol for these EPA methods requires that three test runs be completed to be considered a valid compliance test.

The data base includes results for particulate matter emissions from the sulfuric acid plants operated at four of the six primary copper smelters that would potentially be subject to this supplemental proposal. All the tested sulfuric acid plants are double-contact plant designs with sulfuric acid production capacities ranging from approximately 2,200 to 4,000 tons per day. One of the smelters tested operates two sulfuric acid plants, and the data base includes test results for both plants. The two other smelters for which we do not have source test results also operate double-contact sulfuric acid plants. The design and sulfuric acid production capacities of the sulfuric acid plants for which we do not have data are similar to the five plants included in the data base. A summary of results for each of the individual source tests included in the data base is available in the docket for this rulemaking (Docket A-96-22).

For one smelter located in Arizona, the company provided us with the results from six additional source tests for their facility's sulfuric acid plant conducted using the Arizona Method A1. This is a test method adopted by the State of Arizona for measuring total particulate matter emissions in gas streams containing sulfur. Arizona Method A1 uses a different protocol than EPA Methods 5 and 29. The temperature specified by Arizona Method A1 for the sample collection filter is in the range of 350°F versus 250°F for EPA Methods 5 and 29. At the filter temperature used for the EPA methods, sulfuric acid mist and waters of hydration are condensed and counted as part of the total particulate catch on the filter. Sulfuric acid mist and waters of hydration do not condense at the higher filter temperature used for Arizona Method A1 and pass through the filter (i.e., do not collect on the filter). Consequently, for a given sulfuric acid plant tail gas stream, a total particulate matter concentration value measured on the filter using Arizona Method A1 will be lower than the concentration value measured on the filter using either EPA Method 5 or 29. The test results obtained using Arizona Method A1 cannot be directly compared to the test results obtained using the EPA test methods. Therefore, we decided not to mix incompatible test results in our data base, and we included only those individual source tests conducted using EPA Methods 5 or 29.

In addition, we excluded from further consideration in our selection of a numerical emission limit the results of three source tests that were obtained from the smelter companies. Although these tests were conducted using EPA test methods, our review of the tests showed that the documentation of the test results was either incomplete or that the test was not conducted under normal representative operating conditions. The first test reported results for only two test runs; this is fewer than the minimum number of three runs required by EPA test method protocol to be a valid compliance test. A second test was excluded because the smelter company reported to us that, based on the results of that test, the sulfuric acid plant was subsequently shut down to make repairs to catalyst beds. We do not consider this test to be representative of normal sulfuric acid plant performance at the smelter. Our review of the third test shows that there exists a substantial inconsistency in the measured particulate matter concentrations between the first test run as compared to the second and third runs conducted on the same day. An extraordinarily large value of 0.075 gr/dscf was reported for the first run versus more credible values of 0.004 and 0.005 gr/dscf reported for the second and third runs, respectively. These results clearly indicate that the first run result is an outlier due to either a sampling or analytical error. We have, therefore, decided to exclude the results for that source test from further consideration.

Our data base for selecting the numerical limit for the emission standard is comprised of a total of 78 particulate matter concentration values. Each of these values represents the total particulate matter concentration in the tail gas stream exiting the sulfuric acid plant and is calculated by averaging the results for the three individual test runs conducted for a given source test. These 3-run averages range from 0.001 gr/dscf to 0.015 gr/dscf of total particulate matter emitted in the sulfuric acid plant tail gas streams. All but two of these 3-run averages are less than 0.010 gr/dscf (one facility reported a 3-run average value of 0.011 gr/dscf, and another a 3-run average value of 0.015 gr/dscf). For each of the five sulfuric acid plants represented in our data base, we also computed the overall average total particulate matter concentration from all of the 3-run averages included in our data base for a given sulfuric acid plant. These overall average particulate concentration values are presented in the following Table 1. (Note that sulfuric acid plants A and B are located at the same primary copper smelter.) Also shown are the number of 3-run tests used to compute the overall average for each sulfuric acid plant.

Table 1.—Particulate Matter Emissions From Sulfuric Acid Plants at Primary Copper Smelters
Sulfuric acid plant | Overall average total particulate matter concentration | Number of source tests averaged
A | 0.004 gr/dscf | 34
B | 0.004 gr/dscf | 38
C | 0.007 gr/dscf | 1
D | 0.008 gr/dscf | 2
E | 0.010 gr/dscf | 3

A review of the five sulfuric plant designs supports a finding that all of the plants provide a comparable level of particulate matter pre-cleaning. Each process off-gas stream from the smelting and converting operations passes through a series of particulate control devices before the gases enter the sulfuric acid plant catalyst beds. For most of the process gas streams, the particulate matter cleaning sequence begins with an electrostatic precipitator (ESP), followed by a wet scrubber system, and finally a wet ESP and mist eliminator. Variations of this sequence are used for a few of the process off-gas streams. For example, at one smelter, the smelting furnace off-gases pass through two separate wet scrubbing systems before entering the wet ESP. However, regardless of the specific design configuration used for pre-cleaning the process off-gases, all of the process off-gasses pass through a series of either ESP or wet scrubber control devices and then a wet ESP before the gas stream enters the catalyst bed. Therefore, we conclude that all five sulfuric acid plants represent the MACT floor level of control, and that the variation of the particulate matter concentrations reported in the data base for the tail gases exiting from these plants reflect normal and unavoidable variability.

Given the above finding and our evaluation of the available test results, we are proposing 0.010 gr/dscf as the numerical limit for total particulate matter contained in the tail gases exiting the sulfuric acid plants operated at primary copper smelters. In our judgment, this value reflects a level of total particulate matter emissions that can be achieved consistently by a properly operated and maintained sulfuric acid plant used to control process off-gases from primary copper smelting and converting operations. Converting the value of 0.010 gr/dscf to the equivalent metric units, the numerical emission limit we are proposing for the concentration of total particulate matter allowed to be emitted in the process off-gases discharged to the atmosphere from smelting furnaces, slag cleaning vessels, and batch copper converters is 23 mg/dscm.

IV. Requirements for Alarm Limits on Baghouse Leak Detector Alarms

Today's action also proposes additional requirements for owners or operators of baghouses with bag leak detection systems. This supplement to the proposed rule would enhance the requirements regarding bag leak detection systems in § 63.1452 of the proposed rule to include an enforceable operating limit, such that the owner or operator would be in violation of the standards operating limit if the alarm on a bag leak detection system sounds for more than 5 percent of the total operating time in each 6-month reporting period. This supplementary proposal also specifies that each time the alarm sounds and the owner or operator initiates corrective actions within 1 hour of the alarm, 1 hour of alarm time would be counted. If the owner or operator takes longer than 1 hour to initiate corrective actions, the EPA proposes that alarm time would be counted as the actual amount of time taken by the owner or operator to initiate corrective actions. If inspection of the baghouse system demonstrates that no corrective actions are necessary, no alarm time would be counted. This supplementary proposal also proposes that owners and operators be required to continuously record the output from a bag leak detection system and to maintain these records as specified in § 63.10 of the general provisions.

By requiring sources controlled by baghouses to continuously monitor their compliance with specific control devices, and by making deviations from such operating parameters for more than 5 percent of the total operating time in each 6-month reporting period a violation of the operating limit, the monitoring requirements help assure continuous compliance with the emission limits through continuous emissions reductions. Likewise, the continuous monitoring of the baghouse using a bag leak detection system, and the enforceable 5 percent threshold level, will help ensure that the baghouse is being operated and maintained properly and thereby helps assure continuous compliance with the emission limit through continuous emissions reductions. The EPA is proposing the requirement to continuously record bag leak detection system output to ensure that data necessary to assess compliance with the newly proposed operating limit for bag leak detection system alarms would be available. In the absence of such information, enforcement personnel would be unable to determine whether the operating limit is being met. The output records would also provide data necessary to assess the magnitude of the output level above the alarm set point, and would assist owners and operators in properly operating and maintaining the baghouse and in diagnosing baghouse upsets. As proposed, an alarm simply indicates that the set point was exceeded, but it does not relate to the deviation or magnitude of the output level above the set point.

V. Administrative Requirements

A. Executive Order 12866, Regulatory Planning and Review

Under Executive Order 12866 (58 FR 51735, October 4, 1993), the EPA must determine whether the regulatory action is “significant” and therefore subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) materially alter the budgetary impact of entitlements, grants, user fees, or loan programs, or the rights and obligation of recipients thereof; or

(4) raise novel legal or policy issues arising out of legal mandates, the President's priorities, or the principles set forth in the Executive Order.

Pursuant to the terms of Executive Order 12866, it has been determined that this rule is not a “significant regulatory action” because none of the listed criteria apply to this action. Consequently, this action was not submitted to OMB for review under Executive Order 12866.

B. Executive Order 13132, Federalism

Executive Order 13132, entitled “Federalism” (64 FR 43255, August 10, 1999), requires the EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under Section 6 of Executive Order 13132, the EPA may not issue a regulation that has federalism implications, that imposes substantial direct compliance costs, and that is not required by statute, unless the Federal government provides the funds necessary to pay the direct compliance costs incurred by State and local governments, or the EPA consults with State and local officials early in the process of developing the proposed regulation. The EPA also may not issue a regulation that has federalism implications and that preempts State law, unless the Agency consults with State and local officials early in the process of developing the proposed regulation.

This supplement to the proposed rule does not have federalism implications. It will not have substantial direct effects on the States, on the relationship between the national government and the States, or on the distribution of power and responsibilities among the various levels of government, as specified in Executive Order 13132. No State or local governments own or operate primary copper smelters. Thus, the requirements of section 6 of the Executive Order do not apply to this rule.

C. Executive Order 13084, Consultation and Coordination With Indian Tribal Governments

Under Executive Order 13084, the EPA may not issue a regulation that is not required by statute, that significantly or uniquely affects the communities of Indian tribal governments, and that imposes substantial direct compliance costs on those communities, unless the Federal government provides the funds necessary to pay the direct compliance costs incurred by the tribal governments, or the EPA consults with those governments. If the EPA complies by consulting, Executive Order 13084 requires the EPA to provide to OMB, in a separately identified section of the preamble to the rule, a description of the extent of the EPA's prior consultation with representatives of affected tribal governments, a summary of the nature of their concerns, and a statement supporting the need to issue the regulation. In addition, Executive Order 13084 requires the EPA to develop an effective process permitting elected officials and other representatives of Indian tribal governments “to provide meaningful and timely input in the development of regulatory policies on matters that significantly or uniquely affect their communities.” This supplement to the proposed rule does not significantly or uniquely affect the communities of Indian tribal governments. No tribal governments own or operate primary copper smelters. Accordingly, the requirements of section 3(b) of Executive Order 13084 do not apply to this action.

D. Executive Order 13045, Protection of Children From Environmental Health Risks and Safety Risks

Executive Order 13045 (62 FR 19885, April 23, 1997) applies to any rule that: (1) is determined to be “economically significant” as defined under Executive Order 12866, and (2) concerns an environmental health or safety risk that the EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. This supplement to the proposed rule is not subject to Executive Order 13045 because it is based on technology performance and not on health or safety risks. No children's risk analysis was performed because no alternative technologies exist that would provide greater stringency at a reasonable cost. Furthermore, this rule has been determined not to be “economically significant” as defined under Executive Order 12866.

E. Unfunded Mandates Reform Act of 1995

Title II of the Unfunded Mandates Reform Act of 1995 (UMRA), Public Law 104-4, establishes requirements for Federal agencies to assess the effects of their regulatory actions on State, local, and tribal governments and the private sector. Under section 202 of the UMRA, the EPA generally must prepare a written statement, including a cost-benefit analysis, for proposed and final rules with “Federal mandates” that may result in expenditures by State, local, and tribal governments, in aggregate, or by the private sector, of $100 million or more in any 1 year. Before promulgating an EPA rule for which a written statement is needed, section 205 of the UMRA generally requires the EPA to identify and consider a reasonable number of regulatory alternatives and adopt the least-costly, most cost-effective, or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of the EPA regulatory proposals with significant Federal intergovernmental mandates, and informing, educating, and advising small governments on compliance with the regulatory requirements.

The EPA has determined that this supplement to the proposed rule does not contain a Federal mandate that may result in expenditures of $100 million or more for State, local, and tribal governments, in the aggregate, or the private sector in any 1 year. The maximum total annual cost of the requirements by this supplement to the proposed for any year has been estimated to be less than $50,000. Thus, today's supplement to the proposed rule is not subject to the requirements of sections 202 and 205 of the UMRA. In addition, the EPA has determined that this supplement to the proposed rule contains no regulatory requirements that might significantly or uniquely affect small governments because it contains no requirements that apply to such governments or impose obligations upon them. Therefore, today's supplement to the proposed rule is not subject to the requirements of section 203 of the UMRA.

F. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's supplemental proposal on small entities, small entity is defined as: (1) A small business that is a business having less than 500 employees; (2) a small governmental jurisdiction that is a government of a city, county, town, school district or special district with a population of less than 50,000; and (3) a small organization that is any not-for-profit enterprise which is independently owned and operated and is not dominant in its field.

After considering the economic impacts of today's supplement to the proposed rule on small entities, I certify that this action will not have a significant economic impact on a substantial number of small entities. This supplement to the proposed rule will not impose any requirements on small entities. No small businesses, small government jurisdictions, nor small organizations own or operate primary copper smelters potentially subject to the proposed rule.

G. Paperwork Reduction Act

The EPA submitted an Information Collection Request (ICR)(EPA ICR No. 1850.01) for the proposed rule to OMB for approval under the Paperwork Reduction Act, 44 U.S.C. 3501 et seq. That ICR has been revised to add the estimated burden for the emission standard proposed by this supplement to the proposal. No other changes were made to the burden estimates presented in ICR 1850.01. The revised ICR document for the supplemental proposal will be submitted to OMB (EPA ICR No. 1850.02). Public and OMB comments made previously on ICR 1850.01 have not been addressed to date and are not reflected in this revision. All comments, new and old, will be addressed in the ICR for the final rule. A copy of this revised ICR document may be obtained from Sandy Farmer by mail at the Office of Environmental Information, U.S. Environmental Protection Agency, Collection Strategies Division (2822), 1200 Pennsylvania Avenue, NW, Washington, DC 20460, by email at farmer.sandy@epa.gov, or by calling (202) 260-2740. A copy may also be downloaded off the internet at http://www.epa.gov/icr. The information requirements are not effective until OMB approves them.

The information requirements for the proposed rule are based on notification, recordkeeping, and reporting requirements in the NESHAP General Provisions (40 CFR part 63, subpart A), which are mandatory for all operators subject to national emission standards. These recordkeeping and reporting requirements are specifically authorized by section 114 of the CAA (42 U.S.C. 7414). All information submitted to the EPA pursuant to the recordkeeping and reporting requirements for which a claim of confidentiality is made is safeguarded according to Agency policies set forth in 40 CFR part 2, subpart B.

The emission standard proposed by this supplement to the proposal would not require any notifications or reports beyond those required by the General Provisions for performance testing under 40 CFR 63.7. The recordkeeping requirements require only the specific information needed to determine compliance with the proposed emission standard by performance testing. Adding the burden estimates for the performance testing required by the supplement to the proposed rule, the revised total annual monitoring, reporting, and recordkeeping burden for the rule (averaged over the first 3 years after the effective date of the rule) is estimated to be 11,980 labor hours per year at a total annual cost of $624,000. This estimate includes a one-time performance test and report (with repeat tests where needed); one-time submission of a startup, shutdown, and malfunction plan with semi-annual reports for any event when the procedures in the plan were not followed; semi-annual excess emission reports; maintenance inspections; notifications; and recordkeeping. Total capital/startup costs associated with the monitoring requirements over the 3-year period of the ICR are estimated at $156,000, with operation and maintenance costs of $72,000/yr.

Burden means the total time, effort, or financial resources expended by persons to generate, maintain, retain, or disclose, or provide information to or for a Federal agency. This includes the time needed to review instructions; develop, acquire, install, and utilize technology and systems for the purpose of collecting, validating, and verifying information; processing and maintaining information, and disclosing and providing information; adjust the existing ways to comply with any previously applicable instructions and requirements; train personnel to respond to a collection of information; search existing data sources; complete and review the collection of information; and transmit or otherwise disclose the information.

An Agency may not conduct or sponsor, and a person is not required to respond to, a collection of information unless it displays a currently valid OMB control number. The OMB control numbers for EPA's regulations are listed in 40 CFR part 9 and 48 CFR chapter 15.

Comments on the estimated burden for the emission standard proposed by this supplement to the proposal are requested on the EPA's need for this information, the accuracy of the provided burden estimates, and any suggested methods for minimizing respondent burden, including the use of automated collection techniques. Send comments on the ICR to the Director, Regulatory Information Division, U.S. Environmental Protection Agency (2137), 1200 Pennsylvania Avenue, NW, Washington, DC 20460; and to the Office of Information and Regulatory Affairs, Office of Management and Budget, 725 17th Street NW, Washington, DC 20503, marked “Attention: Desk Office for EPA.” Include the ICR number in any correspondence. Because the OMB is required to make a decision concerning the ICR between 30 and 60 days after June 26, 2000, comment to OMB is best assured of having its full effect if OMB receives it by July 26, 2000. The final rule will respond to any OMB or public comments on the information collection requirements contained in this proposal.

H. National Technology Transfer and Advancement Act

Section 12(d) of the National Technology Transfer and Advancement Act of 1995 (NTTAA), Public Law No. 104-113, section 12(d) (15 U.S.C. 272 note), directs all Federal agencies to use voluntary consensus standards instead of government-unique standards in their regulatory activities unless to do so would be inconsistent with applicable law or otherwise impractical. Voluntary consensus standards are technical standards (e.g., material specifications, test method, sampling and analytical procedures, business practices, etc.) that are developed or adopted by one or more voluntary consensus standards bodies. Examples of organizations generally regarded as voluntary consensus standards bodies include the American Society for Testing and Materials (ASTM), the National Fire Protection Association (NFPA), and the Society of Automotive Engineers (SAE). The NTTAA requires Federal agencies like the EPA to provide Congress, through OMB, with explanations when an agency decides not to use available and applicable voluntary consensus standards.

In developing this supplement to the proposal, the EPA searched for voluntary consensus standards that might be applicable. The search has identified no applicable voluntary standards. Accordingly, the NTTAA requirement to use applicable voluntary consensus standards does not apply to this rule.

List of Subjects in 40 CFR Part 63

Environmental protection, Administrative practice and procedure, Air pollution control, Copper, Hazardous substances, Intergovernmental relations, Reporting and recordkeeping requirements.

Dated: June 19, 2000.
Carol M. Browner,
Administrator.

For the reasons set out in the preamble, part 63 of title 40, chapter I, of the Code of Federal Regulations, as proposed to be amended at 63 FR 19602 on April 20, 1998, is proposed to be further amended as follows:

PART 63—[AMENDED]

1. The authority citation for part 63 continues to read as follows:

Authority: 42 U.S.C. 7401, et seq.

Subpart QQQ—National Emission Standards for Hazardous Air Pollutants From Primary Copper Smelters

2. Section 63.1444 is amended by revising paragraph (b) to read as follows:

§ 63.1444 Standards: Smelting vessels.

* * * * *

(b) The owner or operator shall not discharge nor cause to be discharged to the atmosphere any off-gases from the smelting vessel that contain total particulate matter greater than 23 milligrams per dry standard cubic meter (mg/dscm) as determined by an emission test conducted in accordance with the applicable requirements of § 63.1451. Off-gases from the smelting vessel are generated when copper ore concentrate and fluxes are being smelted to form copper matte and slag.

* * * * *

3. Section 63.1445 is amended by revising paragraph (b)(1) to read as follows:

§ 63.1445 Standards: Slag cleaning vessels.

* * * * *

(b) * * *

(1) The owner or operator shall not discharge nor cause to be discharged to the atmosphere any off-gases from the slag cleaning vessel that contain total particulate matter greater than 23 milligrams per dry standard cubic meter (mg/dscm) as determined by a performance test conducted in accordance with the applicable requirements of § 63.1451. Off-gases from the slag cleaning vessel are generated when molten copper-bearing material is processed to separate this material into molten copper matte and slag layers

* * * * *

4. Section 63.1446 is amended by revising paragraphs (b)(1)(iii)(A), (b)(2)(ii), and (c)(3)(i) to read as follows:

§ 63.1446 Standards: Copper converters.

* * * * *

(b) * * *

(1) * * *

(iii) * * *

(A) The owner or operator shall not discharge nor cause to be discharged to the atmosphere any primary hood exhaust stream that contains total particulate matter greater than 23 milligrams per dry standard cubic meter (mg/dscm) as determined by a performance test conducted in accordance with the applicable requirements of § 63.1451.

* * * * *

(2) * * *

(ii) The owner or operator shall not discharge nor cause to be discharged to the atmosphere any side flue exhaust stream that contains total particulate matter greater than 23 milligrams per dry standard cubic meter (mg/dscm) as determined by a performance test conducted in accordance with the applicable requirements of § 63.1451.

* * * * *

(c) * * *

(3) * * *

(i) The owner or operator shall not discharge nor cause to be discharged to the atmosphere any side flue exhaust stream that contains total particulate matter greater than 23 milligrams per dry standard cubic meter (mg/dscm) as determined by a performance test conducted in accordance with the applicable requirements of § 63.1451.

* * * * *

5. Section 63.1452 is amended by adding a new paragraph (d)(5)(iii) to read as follows:

§ 63.1452 Inspection and monitoring requirements.

* * * * *

(d) * * *

(5) * * *

(iii) (A) The owner or operator shall operate and maintain the baghouse so that the alarm on the bag leak detection system does not sound for more than 5 percent of the total operating time in each 6-month reporting period. Each time the alarm sounds and the owner or operator initiates corrective actions within 1 hour of the alarm, 1 hour of alarm time will be counted. If the owner or operator takes longer than 1 hour to initiate corrective actions, alarm time will be counted as the actual amount of time taken by the owner or operator to initiate corrective actions. If inspection of the baghouse system demonstrates that no corrective actions are necessary, no alarm time will be counted.

(B) The owner or operator shall continuously record the output from the bag leak detection system.

* * * * *

[FR Doc. 00-15915 Filed 6-23-00; 8:45 am]

BILLING CODE 6560-50-P